DEPARTMENT OF ENERGY

Federal Energy Regulatory Commission

Combined Notice of Filings #1

Take notice that the Commission received the following exempt wholesale generator filings:

Docket Numbers: EG16-63-000.

Applicants: Live Oak Solar, LLC.

Description: Notice of Self-Certification of Exempt Wholesale Generator Status of Live Oak Solar, LLC.

Filed Date: 3/4/16.

Accession Number: 20160304-5291.

Comments Due: 5 p.m. ET 3/25/16.

Docket Numbers: EG16-64-000.

Applicants: White Pine Solar, LLC.

Description: Notice of Self-Certification of Exempt Wholesale Generator Status of White Pine Solar.

Filed Date: 3/4/16.

Accession Number: 20160304-5305.

Comments Due: 5 p.m. ET 3/25/16.

Docket Numbers: EG16-65-000.

Applicants: White Oak Solar, LLC.

Description: Notice of Self-Certification of Exempt Wholesale Generator Status of White Oak Solar, LLC.

Filed Date: 3/4/16.

Accession Number: 20160304-5308.

Comments Due: 5 p.m. ET 3/25/16.

Docket Numbers: EG16-66-000.

Applicants: Brady Wind, LLC.

Description: Notice of Self-Certification of Exempt Wholesale Generator Status of Brady Wind.

Filed Date: 3/4/16.

Accession Number: 20160304-5310.

Comments Due: 5 p.m. ET 3/25/16.

Docket Numbers: EG16-67-000.

Applicants: Brady Wind II, LLC.

Description: Notice of Self-Certification of Exempt Wholesale Generator Status of Brady Wind II.

Filed Date: 3/4/16.

Accession Number: 20160304-5311.

Comments Due: 5 p.m. ET 3/25/16.

Take notice that the Commission received the following electric rate filings:

Docket Numbers: ER16-372-001.

Applicants: PJM Interconnection, L.L.C.

Description: Compliance filing: Response to Deficiency Letter in ER16-372-000 to be effective 12/31/9998.

Filed Date: 3/7/16.

Accession Number: 20160307-5000.

Comments Due: 5 p.m. ET 3/28/16.

Docket Numbers: ER16-1085-000.

Applicants: California Independent System Operator Corporation.

Description: Section 205(d) Rate Filing: 2016-03-04 Distributed Energy Resource Provider Initiative to be effective 6/3/2016.

Filed Date: 3/4/16.

Accession Number: 20160304-5258.

Comments Due: 5 p.m. ET 3/25/16.

Docket Numbers: ER16-1086-000.

Applicants: Southwest Power Pool, Inc.

Description: Section 205(d) Rate Filing: Attachment X Article 5A Revisions to Provide for Netting of TCR Credit Portfolio to be effective 5/3/2016.

Filed Date: 3/4/16.

Accession Number: 20160304-5262.

Comments Due: 5 p.m. ET 3/25/16.

Docket Numbers: ER16-1087-000.

Applicants: Entergy Louisiana, LLC, Entergy New Orleans, Inc.

Description: Section 205(d) Rate Filing: ENO-ELL Payment Agreement to be effective 9/1/2016.

Filed Date: 3/7/16.

Accession Number: 20160307-5001.

Comments Due: 5 p.m. ET 3/28/16.

Docket Numbers: ER16-1088-000.

Applicants: Public Service Company of Colorado.

Description: Compliance filing: 3-7-2016_Att R-PSCo Compliance Filing to be effective 10/1/2015.

Filed Date: 3/7/16.

Accession Number: 20160307-5042.

Comments Due: 5 p.m. ET 3/28/16.

Docket Numbers: ER16-1089-000.

Applicants: Duke Energy Florida, LLC.

Description: Section 205(d) Rate Filing: City of Chattahoochee PSA Amendment RS No. 126 to be effective 1/1/2016.

Filed Date: 3/7/16.

Accession Number: 20160307-5047.

Comments Due: 5 p.m. ET 3/28/16.

Docket Numbers: ER16-1090-000.

Applicants: DTE River Rouge No. 1, LLC.

Description: Tariff Cancellation: Cancel Market Based Rate Tariff to be effective 3/8/2016.

Filed Date: 3/7/16.

Accession Number: 20160307-5069.

Comments Due: 5 p.m. ET 3/28/16.

Docket Numbers: ER16-1091-000.

Applicants: DTE Stoneman, LLC.

Description: Tariff Cancellation: Cancel Market Based Rate Tariff to be effective 3/8/2016.

Filed Date: 3/7/16.

Accession Number: 20160307-5070.

Comments Due: 5 p.m. ET 3/28/16.

Docket Numbers: ER16-1092-000.

Applicants: Southwest Power Pool, Inc.

Description: Compliance filing: SPP-MISO JOA Revisions to Sections 5.2, 5.3, 5.4 to be effective 2/1/2016.

Filed Date: 3/7/16.

Accession Number: 20160307-5105.

Comments Due: 5 p.m. ET 3/28/16.

Docket Numbers: ER16-1093-000.

Applicants: PJM Interconnection, L.L.C., PPL Electric Utilities Corporation.

Description: Section 205(d) Rate Filing: PPL Electric submits Interconnection Agreement No. 747 among PPL and Allegheny to be effective 5/6/2016.

Filed Date: 3/7/16.

Accession Number: 20160307-5112.

Comments Due: 5 p.m. ET 3/28/16.

Docket Numbers: ER16-1094-000.

Applicants: PJM Interconnection, L.L.C.

Description: Section 205(d) Rate Filing: Original Service Agreement No. 4410; Queue Z2-077 (WMPA) to be effective 2/9/2016.

Filed Date: 3/7/16.

Accession Number: 20160307-5114.

Comments Due: 5 p.m. ET 3/28/16.

Docket Numbers: ER16-1095-000.

Applicants: PJM Interconnection, L.L.C.

Description: Section 205(d) Rate Filing: Original Service Agreement No. 4411; Queue AA1-059 (WMPA) to be effective 2/9/2016.

Filed Date: 3/7/16.

Accession Number: 20160307-5142.

Comments Due: 5 p.m. ET 3/28/16.

Docket Numbers: ER16-1096-000.

Applicants: Midcontinent Independent System Operator, Inc.

Description: Compliance filing: 2016-03-07_SPP-MISO JOA Changes Related to Settlement Agreement to be effective 2/1/2016.

Filed Date: 3/7/16.

Accession Number: 20160307-5181.

Comments Due: 5 p.m. ET 3/28/16.

Docket Numbers: ER16-1097-000.

Applicants: AEP Texas Central Company.

Description: Section 205(d) Rate Filing: TCC-Apex Midway Wind Second Amended & Restated IA to be effective 2/17/2016.

Filed Date: 3/7/16.

Accession Number: 20160307-5196.

Comments Due: 5 p.m. ET 3/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2016.
Nathaniel J. Davis, Sr.,
Deputy Secretary.

[FR Doc. 2016-05502 Filed 3-10-16; 8:45 am]

BILLING CODE 6717-01-P